DEPARTMENT OF STATE

[Public Notice 7464]

In the Matter of the Designation of Army of Islam, aka Jaish al-Islam, aka Jaysh al-Islam, as a Foreign Terrorist Organization Pursuant to Section 219 of the Immigration and Nationality Act, as Amended

Based upon a review of the Administrative Record assembled in this matter, and in consultation with the Attorney General and the Secretary of the Treasury, I conclude that there is a sufficient factual basis to find that the relevant circumstances described in section 219 of the Immigration and Nationality Act, as amended (hereinafter “INA”) (8 U.S.C. 1189), exist with respect to Army of Islam, also known as Jaish al-Islam, also known as Jaysh al-Islam.

Therefore, I hereby designate the aforementioned organization and its aliases as a Foreign Terrorist Organization pursuant to section 219 of the INA.

This determination shall be published in the Federal Register.

Dated: May 9, 2011.
Hillary Rodham Clinton,
Secretary of State.

[FR Doc. 2011-12614 Filed 5-20-11; 8:45 am]

BILLING CODE 4710-10-P